DEPARTMENT OF HOUSING AND URBAN DEVELOPMENT

[Docket No. FR-7039-N-04]

60-Day Notice of Proposed Information Record of Employee Interview OMB Control No. 2501-0009

AGENCY: Office of Davis Bacon Labor Standards and Enforcement, FPM, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: July 20, 2021.

ADDRESSES: Interested persons are invited to submit comments regarding this proposal. Comments should refer to the proposal by name and/or OMB Control Number and should be sent to: Walter Kroptavich, Program Analyst, Office of Field Policy and Management, Department of Housing and Urban Development, 451 7th Street SW, Washington, DC 20410, Room 7108 or the number (202-402-5537) this is not a toll free number or email at walter.kroptavich@hud.gov or a copy of the proposed forms or other available information. Persons with hearing or speech impairments may access this number though TTY by calling the toll-free Federal Relay Service at (800) 877-8339.

FOR FURTHER INFORMATION CONTACT: Anna Guido, Reports Management Officer, QDAM, Department of Housing and Urban Development, 451 7th Street SW, Washington, DC 20410; email Anna Guido at Anna.P.Guido@hud.gov or telephone 202-402-5535. Persons with hearing or speech impairments may access this number through TTY by calling the toll-free Federal Relay Service at (800) 877-8339. This is not a toll-free number. Copies of available documents submitted to OMB may be obtained from Ms. Guido.

SUPPLEMENTARY INFORMATION: This notice informs the public that HUD is seeking approval from OMB for the information collection described in Section A.

A. Overview of Information Collection

Title of Information Collection: Record of Employee Interview.

OMB Approval Number: 2501-0009.

Type of Request: Reinstatement with change.

Form Number: HUD -11, HUD-11-SP, HUD-11i.

Description of the need for the information and proposed use: The information is collected using interviews with laborers and mechanics and is compared with employer's certified payroll reports received through other systems. When the collected information is compared with the employer's submitted reports, the information should duplicate itself proving the reports received match the information collected meaning likely compliance with federal labor standards. When there is a difference, an investigation takes place to determine the discrepancy and, when appropriate, declare a federal labor standard violation with steps taken to correct the violation. This collection focuses on the employee as the respondent.

Information collection | Estimated number of respondents | Frequency of response | Total number of responses | Total burden hours per response | Total burden hour annual | Hourly cost per response | Total cost
HUD-11 Record of Employee Interview or HUD-11SP Historial de Entrevista del | 37,944 | 1 | 37,944 | .25 | 9,486 | $28.05 | $266,082.31
HUD-11i Record of Employee Interview Instructions | 0 | 0 | 0 | 0 | 0 | 0 | 0
Total | 37,944 | 1 | 37,944 | .25 | 9,486 | 28.05 | 266,082.31

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Krista Mills,
Acting Director, Office of Field Policy and Management.

[FR Doc. 2021-10780 Filed 5-20-21; 8:45 am]

BILLING CODE 4210-67-P